ENVIRONMENTAL PROTECTION AGENCY

[FRL-8174-7]

Final Reissuance of General NPDES Permit (GP) for Offshore Oil and Gas Exploration Facilities on the Outer Continental Shelf and Contiguous State Waters (NPDES Permit Number AKG-28-0000)

AGENCY: Environmental Protection Agency.

ACTION: Final Notice of reissuance of the general NPDES permit.

SUMMARY: On April 5, 2004, EPA proposed to reissue the general permit (GP) for offshore oil and gas exploration facilities on the Outer Continental Shelf (OCS) areas designated as the Beaufort and Chukchi Seas and contiguous State waters, pursuant to the provisions of the Clean Water Act (CWA) 33 U.S.C. 1251 et seq. There was a 45 day comment period during which written comments on the draft permit were submitted to EPA. On June 24, 2005, EPA extended the area of coverage to include the Hope Basin and Norton Sound Planning Areas including contiguous State waters that are within the Minerals Management Services current 5-year oil and gas leasing program and proposed to reissue the GP. There was an additional 30 day comment period. During the two comment periods, EPA received six comment letters on the GP. A Response to Comments was prepared by EPA along with the final GP.

DATES: The general permit will be effective June 26, 2006.

ADDRESSES: Copies of the GP and Response to Comments are available upon request. Written requests may be submitted to EPA, Region 10, 1200 Sixth Avenue OWW-130, Seattle, WA 98101. Electronic requests may be mailed to: washington.audrey@epa.gov or vidanage.sonia@epa.gov.

FOR FURTHER INFORMATION CONTACT: The GP, Fact Sheet and Response to Comments may be found on the Region 10 Web site at http://www.epa.gov/r10earth/waterpermits.htm under the General Permits section. Requests by phone may be made to Audrey Washington at (206) 553-0523 or to Sonia Vidanage at (206) 553-1019.

SUPPLEMENTARY INFORMATION:

Executive Order 12866: The Office of Management and Budget exempted this action from the review requirements of Executive Order 12866 pursuant to section 6 of that order.

The State of Alaska, Department of Environmental Conservation (ADEC), has certified that the subject dischargers comply with the applicable provisions of section 208(e), 301, 302, 306 and 307 of the Clean Water Act, and that the general permit is in compliance with the Standards of the Alaska Coastal Management Program.

Regulatory Flexibility Act (RFA): Under the RFA, 5 U.S.C. 601 et seq., a Federal agency must prepare an initial regulatory flexibility analysis “for any proposed rule” for which the agency “is required by section 553 of the Administrative Procedure Act (APA), or any other law, to publish general notice of proposed rule making. The RFA exempts from this requirement any rule that the issuing agency certifies “will not, if promulgated, have a significant economic impact of a substantial number of small entities.” EPA has concluded that NPDES general permits are permits, not rulemakings, under the APA and thus not subject to APA rulemaking requirements or RFA.

Dated: May 16, 2006.
Michael F. Gearheard,
Director, Office of Water & Watersheds, Region 10.

[FR Doc. E6-8184 Filed 5-25-06; 8:45 am]

BILLING CODE 6560-50-P